DEPARTMENT OF JUSTICE

Antitrust Division

Notice Pursuant to the National Cooperative Research and Production Act of 1993—Telemanagement Forum

Notice is hereby given that, on September 11, 2000, pursuant to section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Vodafone AirTouch plc, Newbury, Berkshire, England, United Kingdom; E-Plus Mobilfunk GmbH, Dusseldorf, Germany; WatchMark Corp., Bellevue, WA; American Management Systems, Minnetonka, MN; NetNumber, Lowell, MA; and Redback Networks, San Jose, CA have become Corporate Members. PeopleSoft Inc., Pleasanton, CA; Applied Innovation Inc., Dublin, OH; Acanthis, Les Algorithmes-Bat. Aristote, Cedex, France; Quallaby Corporation, Lowell, MA; Metro-Optix, Inc., Plano, TX; LightSand Communications, Inc., Milpitas, CA; WebMethods, Inc., Fairfax, VA; Cable & Wireless Optus, Chatswood, New South Wales, Australia; Blue Band, Inc., Broomfield, CO; PrismTech Limited, Tyne & Wear, England, United Kingdom; Passport Corporation, Paramus, NJ; Photonex Corporation, Bedford, MA; Digital Fuel Technologies Ltd., Jerusalem, Israel; Digital Fairway Corp., Kanata, Ontario, Canada; Escosoft Technologies Ltd., New Delhi, India; Traian Internet Products AG, Cologne, Germany; Africa, Hertzelia, Israel; A 1 Metrix, Inc., El Dorado Hills, CA; Sigma Exallon Systems, Malmo, Sweden; Riversoft, San Francisco, CA; Monfox, LLC, Alpharetta, GA; Valtech, Addison, TX; Auspice Inc., Framingham, MA; CoManage, Wexford, PA; General Bandwidth, Austin, TX; Laurel Networks, Sewickley, PA; Maple Networks, San Jose, CA; Netscient Ltd., Redditch, Worcestershire, England, United Kingdom; Precision Software, Irving, TX; Zaffire, Inc., San Jose, CA; MDSI Mobile Data Solutions Inc., Richmond, British Columbia, Canada; Smallworld Systems, Inc., Englewood, CO; Appian Communications, Inc., Boxborough, MA; Bluespring Software, Cincinnati, OH; Telecom Mgmt. Consulting Group, New York, NY; Insight Systems, Inc., Atlanta, GA; Netro Corporation, San Jose, CA; Astral Point, Chelmsford, MA; and Virtual Access, Ascot, Berkshire, England, United Kingdom have become Associate Members. Logan-Orvis International, Valbonne, France; Kanazia Telecommunication Development Centre, Mubai, India; GuideComm Systems, Herndon, VA; Institut National Des Telecommunications (INT), Cedex, France; Technology Research Institute, Sudbury, MA; Renaissance Strategy Worldwide, Inc., San Francisco, CA; and TMNG-The Management Network Group, Overland Park, KS have become Affiliate Members.

The following members have changed their names: MCI Worldcom, Inc. is now called Worldcom, Inc., Clinton, MS; Corvia Networks Inc. is now called BrightLink Networks, Sunnyvale, CA; Ernst & Young is now called Cap Gemini Ernst & Young, Clark, NJ; Telecommunications Management Solutions is now called Telecommunications Management Networks de Mexico, S.A. de C.V., Mexico City, Mexico; Bull is now called EVIDIAN, Billerica, MA; Metamor is now called PSINet Consulting Solutions, Houston, TX; and Tycom Submarine Systems is now called TyCom, Ltd., Eatontown, NJ.

The following companies have cancelled their membership: Newbridge Networks Corporation, Kanata, Ontario, Canada; Corporate Renaissance, Inc., Concord, MA; Pluris, Inc., Cupertino, CA; IEL, Windsor, Berkshire, England, United Kingdom; ITS, Inc., Piscataway, NJ; National Communications Systems, Arlington, VA; Informix Software, Inc., Menlo Park, CA; Citizens Communications, Dallas, TX; RELTEC, Dorval, Quebec, Canada; Videotron, Montreal, Quebec, Canada; GE Capital Consulting, Somerset, NJ; and Hughes Network Systems, Germantown, MD.

No other changes have been made in either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on June 1, 2000. A notice for this filing has not yet been published in the Federal Register.

Constance K. Robinson,
Director of Operations Antitrust Division.

[FR Doc. 01-7196 Filed 3-22-01; 8:45 am]

BILLING CODE 4410-11-M